SECURITIES AND EXCHANGE COMMISSION

[Release No. 34-64892A; File No. SR-FINRA-2011-034]

Self-Regulatory Organizations; Financial Industry Regulatory Authority, Inc.; Notice of Filing and Order Granting Accelerated Approval of Proposed Rule Change To Amend FINRA Rule 4240 (Margin Requirements for Credit Default Swaps); Correction

August 15, 2011.

FR Doc. No. 2011-18221, beginning on page 43360 for Wednesday, July 20, 2011, contained an error. Release No. 34-64892 (“Release”) approved a proposed rule change on an accelerated basis filed by FINRA (File No. SR-FINRA-2011-034). Section V of the Release was inadvertently omitted. Accordingly, the conclusion of the Release is added to read as noted below. On page 43363, column 1, following line 6, insert:

“V. Conclusion

It is therefore ordered, pursuant to Section 19(b)(2) of the Act,¹ that the proposed rule change (SR-FINRA-2011-034), be, and hereby is, approved on an accelerated basis.”

¹ 15 U.S.C. 78s(b)(2).

For the Commission, by the Division of Trading and Markets, pursuant to delegated authority.²
² 17 CFR 200.30-3(a)(12).
Elizabeth M. Murphy,
Secretary.

[FR Doc. 2011-21190 Filed 8-18-11; 8:45 am]

BILLING CODE 8011-01-P